DEPARTMENT OF HOMELAND SECURITY

Coast Guard

33 CFR Part 165

[Docket Number USCG-2019-0577]

RIN 1625-AA00

Safety Zone; Traverse City Ironman Triathlon, Traverse City, Michigan

AGENCY: Coast Guard, DHS.

ACTION: Temporary final rule.

SUMMARY: The Coast Guard is establishing a temporary safety zone in the Captain of the Port, Sault Sainte Marie zone. This rule will provide a temporary safety zone to protect 2,400 participating swimmers in the Traverse City Ironman Triathlon. Entry of vessels into this zone is prohibited unless specifically authorized by the Captain of the Port Sector Sault Sainte Marie.

DATES: This rule is effective from 6:15 a.m. through 9:45 a.m. on August 25, 2019.

ADDRESSES: To view documents mentioned in this preamble as being available in the docket, go to https://www.regulations.gov, type USCG-2019-0577 in the “SEARCH” box and click “SEARCH.” Click on Open Docket Folder on the line associated with this rule.

FOR FURTHER INFORMATION CONTACT: If you have questions on this rule, call or email CWO Robert Gruschow Waterways Management, Coast Guard Sector Sault Sainte Marie, U.S. Coast Guard; telephone 906-253-2462.

SUPPLEMENTARY INFORMATION:

I. Table of Abbreviations

CFR Code of Federal Regulations

DHS Department of Homeland Security

FR Federal Register

NPRM Notice of proposed rulemaking

§ Section

U.S.C. United States Code

II. Background Information and Regulatory History

The Coast Guard is issuing this temporary rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because the Coast Guard did not receive the final details of the requested safety zone with sufficient time for a comment period to run before the start of the event. Thus, delaying this rule to wait for a notice and comment period to run would be impracticable and contrary to public interest because it would inhibit the Coast Guard's ability to protect the 2,400 participants from the boating public. It is impracticable to publish an NPRM because we must establish this safety zone by August 25, 2019.

Under 5 U.S.C. 553(d)(3), the Coast Guard finds that good cause exists for making this rule effective less than 30 days after publication in the Federal Register. Delaying the effective date of this rule would be contrary to public interest because prompt action is needed to protect the 2,400 swimmers participating in this event on August 25, 2019.

III. Legal Authority and Need for Rule

The Coast Guard is issuing this rule under authority in 46 U.S.C. 70034 (previously 33 U.S.C. 1231). The Captain of the Sault Sainte Marie (COTP) has determined that potential hazards exist while 2,400 participants associated with the Traverse City Ironman Triathlon, swim in a highly congested area of boating traffic between 6:15 a.m. through 9:45 a.m. on August 25, 2019. This rule is needed to protect the 2,400 participates of the Traverse City Ironman Triathlon event.

IV. Discussion of the Rule

On August 25, 2019, Traverse City, Michigan will be hosting an Ironman Triathlon event. The swim course will be in the Southern West Arm of Grand Traverse Bay beginning at the swim coral located west of City Marina and finishing at Clinch Park Beach.

The City of Traverse City will not allow vessels to enter or leave the City's marina which is located inside the safety zone from 6:15 a.m. through 9:45 a.m. on August 25, 2019. Michigan Department of Natural Resources has approved the closure of the marina during the event. This action is only for the temporary safety zone. The Captain of the Port Sault Sainte Marie has determined that there are potential hazards associated with this marine event and a temporary safety zone of 500 yards is needed around the following area, beginning point of 044°46.104 N 085°37.772 W, to the first turn at point 44°46.15.7 N 085°37.48 W to the second turn at point 44°46.70 N 085°36.59 W to the finishing point of 044°45.947 N 085°37.160 W. This rule is needed to protect the 2,400 participants in the navigable waters in the area of the swim course of the Traverse City Ironman Triathlon.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This rule has not been designated a “significant regulatory action,” under Executive Order 12866. Accordingly, this rule has not been reviewed by the Office of Management and Budget (OMB), and pursuant to OMB guidance it is exempt from the requirements of Executive Order 13771.

This regulatory action determination is based on the city of Traverse City's plan in coordination with the state's Department of Natural Resources to close the marina located within the swim course for the duration of the swim event. The Coast Guard's regulatory action will have no impact since state and local authorities are already closing the marina, prior to the establishment of our safety zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01 and Environmental Planning COMDTINST 5090.1 (series), which guide the Coast Guard in complying with the National Environmental Policy Act of 1969 (42 U.S.C. 4321-4370f), and have determined that this action is one of a category of actions that do not individually or cumulatively have a significant effect on the human environment. This rule involves a safety zone lasting 3 and ½ hours that will prohibit any vessel entry within 500 yards of the swim event of the Ironman Triathlon. It is categorically excluded from further review under paragraph L [60] a in Table 3-1 of U.S. Coast Guard Environmental Planning Implementing Procedures 5090.1. A Record of Environmental Consideration supporting this determination is available in the docket where indicated under ADDRESSES.

G. Protest Activities

The Coast Guard respects the First Amendment rights of protesters. Protesters are asked to contact the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051; 33 CFR 1.05-1, 6.04-1, 6.04-6, and 160.5; Department of Homeland Security Delegation No. 0170.1.

2. Add § 165.T09-0577 to read as follows:

§ 165.T09-0577 Safety Zone; Traverse City Ironman Triathlon, Traverse City, MI.

(a) Location. The temporary safety zone will encompass all U.S. navigable waters of the Southern West Arm of Grand Traverse Bay 500 yards around the following area, beginning at the swim coral located west of City Marina and finishing at Clinch Park Beach, encompassing the following area, beginning point of 044°46.104 N 085°37.772 W, to the first turn at point 44°46.15.7 N 085°37.48 W to the second turn at point 44°46.70 N 085°36.59 W to the finishing point of 044°45.947 N 085°37.160 W.

(b) Effective and enforcement period. The regulation in this section is effective and will be enforced from 6:15 a.m. through 9:45 a.m. on August 25, 2019.

(c) Regulations. (1) In accordance with the general regulations in § 165.23, entry into, transiting, or anchoring within this temporary safety zone is prohibited unless authorized by the Captain of the Port, Sault Sainte Marie or his or her on-scene representative.

(2) This temporary safety zone is closed to all vessel traffic, except as may be permitted by the Captain of the Port, Sault Sainte Marie or his on-scene representative.

(3) The “on-scene representative” of the Captain of the Port, Sault Sainte Marie is any Coast Guard commissioned, warrant or petty officer who has been designated by the Captain of the Port, Sault Sainte Marie to act on his or her behalf. The on-scene representative of the Captain of the Port, Sault Sainte Marie will be aboard a Coast Guard vessel.

(4) Vessel Operators desiring to enter or operate within the temporary safety zone shall contact the Captain of the Port, Sault Sainte Marie, or his on-scene representative to obtain permission to do so. The Captain of the Port, Sault Sainte Marie or his or her on-scene representative may be contacted via VHF Channel 16 or at (906) 635-3319. Vessel operators given permission to enter or operate in the temporary safety zone must comply with all directions given to them by the Captain of the Port, Sault Sainte Marie or his or her on-scene representative.

Dated: July 15, 2019.
P.S. Nelson,
Captain, U.S. Coast Guard, Captain of the Port Sault Sainte Marie.

[FR Doc. 2019-15321 Filed 7-17-19; 8:45 am]

BILLING CODE 9110-04-P